SUSQUEHANNA RIVER BASIN COMMISSION

Notice of Actions Taken at March 12, 2009, Meeting

AGENCY: Susquehanna River Basin Commission.

ACTION: Notice of commission actions.

SUMMARY: At its regular business meeting on March 12, 2009, in Scranton, Pennsylvania, the Commission held a public hearing as part of its regular business meeting. At the public hearing, the Commission: (1) Approved, modified, and tabled certain water resources projects; (2) rescinded approvals for three water resources projects; and (3) adopted a “Records Processing Fee Schedule.” Details concerning these and other matters addressed at the public hearing and business meeting are contained in the SUPPLEMENTARY INFORMATION section of this notice.

DATES: March 12, 2009.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) Recognition of Brig. Gen. Todd Semonite for his two and one half years of outstanding service as the United States Member of the Commission; (2) a special presentation by Mr. Bob Hainly, Asst. Director, USGS Pennsylvania Water Science Center, on obtaining real-time stream flow data using a stream velocity measurement method; (3) a report on the present hydrologic conditions of the basin indicating below normal precipitation and the development of dry conditions heading into Spring 2009; (4) adoption of an Annual Water Resources Program for 2009 implementing the recently revised comprehensive plan; (5) presentation of the William Jeanes Award to Robert Hughes, Director of the Eastern Pennsylvania Coalition for Abandoned Mine Reclamation (EPCAMR) in recognition of his dedicated involvement in numerous projects to restore abandoned mines and improve the water quality of abandoned mine drainage degraded streams; (6) approval/ratification of three grants related to water resources management; (7) adoption of a set of “By-Laws” governing the internal organization, operation, and procedures of the Commission; and (8) tabling of three agenda items, including an “Application Fee Policy for Mine Drainage Withdrawals,” an “Access to Records Policy,” and revision of the FY 2010 budget. The Commission also heard counsel's report on legal matters affecting the Commission, during which the Commission authorized the execution of a proposed settlement agreement on a federal court appeal by East Hanover Township, Dauphin County, Pennsylvania, and tabled until the June 2009 meeting an administrative appeal by Mr. Mark Givler regarding Commission approval of a gas drilling project for Chief Oil & Gas, LLC.

The Commission also convened a public hearing and took the following actions:

Public Hearing—Projects Approved

1. Project Sponsor and Facility: ALTA Operating Company, LLC (Snake Creek), Liberty Township, Susquehanna County, Pa. Surface water withdrawal of up to 0.099 mgd.

2. Project Sponsor and Facility: ALTA Operating Company, LLC (Susquehanna River), Great Bend Township, Susquehanna County, Pa. Surface water withdrawal of up to 3.000 mgd.

3. Project Sponsor and Facility: Anadarko E&P Company LP (Pine Creek), Cummings Township, Lycoming County, Pa. Surface water withdrawal of up to 0.720 mgd.

4. Project Sponsor and Facility: Anadarko E&P Company LP (West Branch Susquehanna River-1), Chapman Township, Clinton County, Pa. Surface water withdrawal of up to 0.720 mgd.

5. Project Sponsor and Facility: Anadarko E&P Company LP (West Branch Susquehanna River-2), Renovo Borough, Clinton County, Pa. Surface water withdrawal of up to 0.720 mgd.

6. Project Sponsor and Facility: Anadarko E&P Company LP (West Branch Susquehanna River-3), Nippenose Township, Lycoming County, Pa. Surface water withdrawal of up to 0.720 mgd.

7. Project Sponsor and Facility: Cabot Oil & Gas Corporation (for operations in Susquehanna and Wyoming Counties, Pa.). Modification of consumptive water use to comport with new regulations effective on January 15, 2009 (Docket No. 20080904).

8. Project Sponsor: CAN DO, Inc. Project Facility: Corporate Center, Hazle Township, Luzerne County, Pa. Groundwater withdrawal of 0.547 mgd from Well 1.

9. Project Sponsor and Facility: Cherokee Pharmaceuticals, LLC, Riverside Borough, Northumberland County, Pa. Consumptive water use of up to 0.999 mgd.

10. Project Sponsor and Facility: Cherokee Pharmaceuticals, LLC, Riverside Borough, Northumberland County, Pa. Surface water withdrawal of up to 34.392 mgd from the North Branch Susquehanna River.

11. Project Sponsor and Facility: Cherokee Pharmaceuticals, LLC, Riverside Borough, Northumberland County, Pa. Groundwater withdrawal of 0.600 mgd for treatment of groundwater contamination.

12. Project Sponsor and Facility: Chesapeake Appalachia, LLC (for operations in Chemung and Tioga Counties, N.Y., and Bradford, Susquehanna, and Wyoming Counties, Pa.). Modification of consumptive water use to comport with new regulations effective on January 15, 2009 (Docket No. 20080902).

13. Project Sponsor and Facility: Chief Oil & Gas LLC (for operations in Bradford County, Pa.). Modification of consumptive water use to comport with new regulations effective on January 15, 2009 (Docket No. 20080911).

14. Project Sponsor and Facility: Chief Oil & Gas LLC (for operations in Lycoming County, Pa.). Modification of consumptive water use to comport with new regulations effective on January 15, 2009 (Docket No. 20080934).

15. Project Sponsor and Facility: Chief Oil & Gas LLC (for operations in Clearfield County, Pa.). Modification of consumptive water use to comport with new regulations effective on January 15, 2009 (Docket No. 20081201).

16. Project Sponsor and Facility: Chief Oil & Gas LLC (Sugar Creek), West Burlington Township, Bradford County, Pa. Surface water withdrawal of up to 0.053 mgd.

17. Project Sponsor and Facility: Citrus Energy (for operations in Wyoming County, Pa.). Modification of consumptive water use to comport with new regulations effective on January 15, 2009 (Docket No. 20081204).

18. Project Sponsor and Facility: Delta Borough, Peach Bottom Township, York County, Pa. Groundwater withdrawal of 0.019 mgd from Well DR-2.

19. Project Sponsor and Facility: East Resources, Inc. (for operations in Elmira, N.Y., Area). Modification of consumptive water use to comport with new regulations effective on January 15, 2009 (Docket No. 20080603).

20. Project Sponsor and Facility: East Resources, Inc. (for operations in Mansfield, Pa., Area). Modification of consumptive water use to comport with new regulations effective on January 15, 2009 (Docket No. 20080608).

21. Project Sponsor and Facility: EOG Resources, Inc. (Bennett Branch-1, Sinnemahoning Creek), Jay Township, Elk County, Pa. Surface water withdrawal of up to 0.171 mgd.

22. Project Sponsor and Facility: EOG Resources, Inc. (Bennett Branch-2, Sinnemahoning Creek), Jay Township, Elk County, Pa. Surface water withdrawal of up to 0.152 mgd.

23. Project Sponsor and Facility: EOG Resources, Inc. (Chemung River-2), Athens Township, Bradford County, Pa. Surface water withdrawal of up to 0.322 mgd.

24. Project Sponsor and Facility: EOG Resources, Inc. (Sugar Creek-1), Burlington Borough, Bradford County, Pa. Surface water withdrawal of up to 0.099 mgd.

25. Project Sponsor and Facility: EOG Resources, Inc. (Sugar Creek-2), North Towanda Town, Bradford County, Pa. Surface water withdrawal of up to 0.099 mgd.

26. Project Sponsor and Facility: EOG Resources, Inc. (Susquehanna River-1), Athens Borough, Bradford County, Pa. Surface water withdrawal of up to 0.322 mgd.

27. Project Sponsor and Facility: EOG Resources, Inc. (Susquehanna River-2), Ulster and Sheshequin Townships, Bradford County, Pa. Surface water withdrawal of up to 0.322 mgd.

28. Project Sponsor and Facility: EOG Resources, Inc. (West Creek), Benzinger Township, Elk County, Pa. Surface water withdrawal of up to 0.096 mgd.

29. Project Sponsor and Facility: Fortuna Energy Inc. (for operations in Southern Tier of N.Y., and Tioga and Bradford Counties, Pa.). Modification of consumptive water use to comport with new regulations effective on January 15, 2009 (Docket No. 20080601).

30. Project Sponsor and Facility: Fortuna Energy Inc. (Sugar Creek), West Burlington Township, Bradford County, Pa. Surface water withdrawal of up to 0.250 mgd.

31. Project Sponsor and Facility: Global Tungsten & Powders Corp., Towanda Borough, Bradford County, Pa. Consumptive water use of up to 0.170 mgd.

32. Project Sponsor: IBM Corp. Project Facility: Endicott, Village of Endicott, Broome County, N.Y. Groundwater withdrawal of 1.010 mgd for treatment of groundwater contamination.

33. Project Sponsor and Facility: J-W Operating Company (for operations in Cameron, Clearfield, and Elk Counties, Pa.). Modification of consumptive water use to comport with new regulations effective on January 15, 2009 (Docket No. 20081211).

34. Project Sponsor and Facility: J-W Operating Company (Sterling Run), Lumber Township, Cameron County, Pa. Surface water withdrawal of up to 0.499 mgd.

35. Project Sponsor: New Enterprise Stone & Lime Co., Inc. Project Facility: Ashcom Quarry, Snake Spring Valley Township, Bedford County, Pa. Modification of consumptive water use, groundwater and surface water withdrawal approval (Docket No. 20031204).

36. Project Sponsor and Facility: Pennsylvania General Energy Company, LLC (for operations in Potter and McKean Counties, Pa.). Modification of consumptive water use to comport with new regulations effective on January 15, 2009 (Docket No. 20080921).

37. Project Sponsor and Facility: Range Resources—Appalachia, LLC (for operations in Bradford, Centre, Clinton, Lycoming, Sullivan, and Tioga Counties, Pa.). Modification of consumptive water use to comport with new regulations effective on January 15, 2009 (Docket No. 20080931).

38. Project Sponsor and Facility: Rex Energy Corporation (for operations in Centre and Clearfield Counties, Pa.). Modification of consumptive water use to comport with new regulations effective on January 15, 2009 (Docket No. 20080941).

39. Project Sponsor and Facility: Turm Oil, Inc. (for operations in Susquehanna County, Pa.). Modification of consumptive water use to comport with new regulations effective on January 15, 2009 (Docket No. 20081223).

40. Project Sponsor and Facility: Ultra Resources (for operations in Tioga and Potter Counties, Pa.). Modification of consumptive water use to comport with new regulations effective on January 15, 2009 (Docket No. 20081228).

41. Project Sponsor and Facility: Ultra Resources (Pine Creek), Pike Township, Potter County, Pa. Surface water withdrawal of 0.430 mgd.

42. Project Sponsor and Facility: Water Treatment Solutions, LLC (West Branch Susquehanna River), Williamsport, Lycoming County, Pa. Surface water withdrawal of 0.100 mgd.

Public Hearing—Projects Tabled

1. Project Sponsor and Facility: ALTA Operating Company, LLC (DuBois Creek), Great Bend Township, Susquehanna County, Pa. Application for surface water withdrawal of up to 0.010 mgd.

2. Project Sponsor and Facility: Anadarko E&P Company LP (West Branch Susquehanna River-4), Burnside Township, Centre County, Pa. Application for surface water withdrawal of up to 0.720 mgd.

3. Project Sponsor and Facility: Chesapeake Appalachia, LLC (Susquehanna River), Terry Township, Bradford County, Pa. Application for surface water withdrawal of up to 0.999 mgd.

4. Project Sponsor and Facility: EOG Resources, Inc. (Bennett Branch-3, Sinnemahoning Creek), Huston Township, Clearfield County, Pa. Application for surface water withdrawal of up to 0.290 mgd.

5. Project Sponsor and Facility: EOG Resources, Inc. (Chemung River-1), Chemung Town, Chemung County, N.Y. Application for surface water withdrawal of up to 0.322 mgd.

6. Project Sponsor and Facility: Schuylkill County Municipal Authority, Pottsville Public Water Supply System, Mount Laurel Subsystem, Butler Township, Schuylkill County, Pa. Application for a withdrawal of up to 0.432 mgd from the Gordon Well.

7. Project Sponsor and Facility: Schuylkill County Municipal Authority, Pottsville Public Water Supply System, Mount Laurel Subsystem, Butler Township, Schuylkill County, Pa. Applications for: (1) An out-of-basin diversion to the Delaware River Basin for water supply; (2) an existing into-basin diversion of wastewater of up to 1.100 mgd from the Delaware River Basin (existing water sources in the Delaware Basin are the Kaufman Reservoir that has an allocation of 0.500 mgd and the Mount Laurel Reservoir that has an allocation of 0.600 mgd); and (3) inclusion of the project in the SRBC Comprehensive Plan.

Public Hearing—Project Withdrawn

1. Project Sponsor and Facility: EOG Resources, Inc. (Kersey Run), Jay Township, Elk County, Pa. Application for surface water withdrawal of up to 0.070 mgd.

Public Hearing—Rescinded Project Approvals

1. Project Sponsor: Harristown Development Corporation. Project Facility: Strawberry Square (Docket No. 20030410), City of Harrisburg, Dauphin County, Pennsylvania.

2. Project Sponsor and Facility: Millennium Pipeline Company, L.L.C. (Docket No. 20080301), Broome, Tioga, and Chemung Counties, N.Y.

3. Project Sponsor and Facility: Millennium Pipeline Company, L.L.C. (Docket No. 20080302), Town of Windsor, Broome County, and Town of Horseheads, Chemung County, N.Y.

Public Hearing—Records Processing Fee Schedule

Following a brief hearing, the Commission adopted a “Records Processing Fee Schedule” to recover costs associated with meeting records requests.

Authority: Pub. L. 91-575, 84 Stat. 1509 et seq., 18 CFR Parts 806, 807, and 808.

Dated: March 23, 2009.
Thomas W. Beauduy,
Deputy Director.

[FR Doc. E9-7517 Filed 4-2-09; 8:45 am]

BILLING CODE 7040-01-P